DEPARTMENT OF HEALTH AND HUMAN SERVICES

Health Resources and Service Administration

Advisory Committee on Interdisciplinary, Community-Based Linkages

AGENCY: Health Resources and Service Administration (HRSA), Department of Health and Human Services (HHS).

ACTION: Notice of Advisory Committee meeting.

SUMMARY: In accordance with the Federal Advisory Committee Act, this notice announces that the Advisory Committee on Interdisciplinary, Community-Based Linkages (ACICBL) will hold a public meeting.

DATES AND TIMES: Wednesday, June 6, 2018, from 8:30 a.m. to 5:00 p.m. and Thursday, June 7, 2018, from 8:30 a.m. to 2:00 p.m. ET.

ADDRESSES: This is an in-person meeting and will offer virtual access through teleconference and webinar. The address for the meeting is 5600 Fishers Lane, Rockville, Maryland 20857. The conference call-in number is 1-800-619-2521; passcode: 9271697. The webinar link is https://hrsa.connectsolutions.com/acicbl.

FOR FURTHER INFORMATION CONTACT: Joan Weiss, Ph.D., RN, CRNP, FAAN, Senior Advisor and Designated Federal Official, Division of Medicine and Dentistry, HRSA, 5600 Fishers Lane, Room 15N39, Rockville, Maryland 20857; phone (301) 443-0430; email jweiss@hrsa.gov.

SUPPLEMENTARY INFORMATION:

Background: ACICBL provides advice and recommendations to the Secretary of HHS and to Congress on a broad range of issues relating to grant programs authorized by sections 750—760, Title VII, Part D of the Public Health Service Act. ACICBL submits reports to the Secretary of HHS; the Committee on Health, Education, Labor, and Pensions of the Senate; and the Committee on Energy and Commerce of the House of Representatives.

Agenda: ACICBL members will discuss preparing the current and future healthcare workforce to practice in age-friendly health systems within the context of the quadruple aim: Improving the patient experience, population health, provider well-being, and reducing health care costs. An agenda will be posted on the ACICBL website prior to the meeting. Please note that agenda items are subject to change as priorities dictate.

Public Participation: Members of the public will have the opportunity to provide comments. Oral comments will be honored in the order they are requested and may be limited as time allows. Requests to make oral comments or provide written comments should be sent to Dr. Weiss. The building at 5600 Fishers Lane, Rockville, MD 20857, requires a security screening for entry. To facilitate access to the building, individuals interested in attending the meeting should notify Dr. Weiss at the contact information listed above at least three business days prior to the meeting. Individuals who plan to participate and need special assistance, such as sign language interpretation or other reasonable accommodations, should notify Dr. Weiss, using the address and phone number above at least 10 business days prior to the meeting.

Amy P. McNulty,
Acting Director, Division of the Executive Secretariat.

[FR Doc. 2018-11464 Filed 5-25-18; 8:45 am]

BILLING CODE 4165-15-P